GENERAL SERVICES ADMINISTRATION

Interagency Committee for Medical Records (ICMR) Revision of SF 533, Medical Record—Prenatal and Pregnancy

AGENCY: General Services Administration.

ACTION: Notice.

SUMMARY: The General Services Administration/ICMR revised the SF 533, Medical Record—Prenatal and Pregnancy to comply with the Antepartum College of Obstetrics and Gynecology standards. You can obtain the updated form through the Federal Supply Service using National Stock Number 7540-00-634-4276 (Revision 12/1999).

You can also obtain a sample copy from the internet. Address: http://www.gsa.gov/forms/forms.htm

FOR FURTHER INFORMATION CONTACT: Ms. Barbara Williams, General Services Administration, (202) 501-0581.

DATES: Effective April 26, 2001.

Dated: April 11, 2001.
Barbara M. Williams,
Deputy Standard and Optional Forms Management Officer, General Services Administration.

[FR Doc. 01-10350 Filed 4-25-01; 8:45 am]

BILLING CODE 6820-34-M